DEPARTMENT OF HEALTH AND HUMAN SERVICES

Health Resources and Services Administration

Mini-Preview Announcement Number: HRSA-04-095 Media-Based Grass Roots Efforts To Increase Solid Organ Donation

AGENCY: Health Resources and Services Administration, HHS.

ACTION: Correction.

SUMMARY: HRSA is modifying the announcement soliciting applications for HRSA's Media-Based Grassroots Efforts to Increase Solid Organ Donation based in part upon changes in the authorizing statute. In notice document 69 FR 21135, Tuesday, April 20, 2004, make the following corrections:

On page 21144, under “Legislative Authority,” replace “Public Health Service Act, Section 371(a)(3), 42 U.S.C. 273(a)(3) as Amended.” with “section 377A(b) of the Public Health Service (PHS) Act, § 42 U.S.C. 274f-1(b).”

On page 21144, under “Purpose” line 49, replace “80” with “75” and in line 61, replace “20” with “25'.

On page 21144, under “Eligibility,” lines 67, 68, 69, and 70, replace the language “private not-for-profit entities eligible for funds under section 371(a)(3) of the Public Health Service Act (42 U.S.C. 273(a)(3).” with “domestic public and nonprofit private entities are eligible to apply as the applicant institution.”

On page 21144, under “Application Availability,” replace “May 11, 2004.” with “June 17, 2004”.

On page 21144, under “Letter of Intent Deadline:” Delete this whole section.

On page 21144, under “Application Deadline” in the third column, line 19, replace “June 25, 2004.” with “July 27, 2004”.

On page 21144, under “Program Contact Person,” in the third column, line 26, replace judy.ceresa@hrsa.gov with “jceresa@hrsa.gov.”

Dated: July 9, 2004.
Tina Cheatham,
Director, Division of Policy Review and Coordination.

[FR Doc. 04-16038 Filed 7-14-04; 8:45 am]

BILLING CODE 4165-15-P